DEPARTMENT OF THE INTERIOR

Bureau of Indian Affairs

Advisory Board for Exceptional Children

AGENCY: Bureau of Indian Affairs, Interior.

ACTION: Notice of meeting.

SUMMARY: In accordance with the Federal Advisory Committee Act, the Bureau of Indian Affairs announces a meeting of the Advisory Board for Exceptional Children in Tempe, Arizona, to discuss the impact of Public Law 105-17, the Individuals with Disabilities Education Act Amendments of 1997, on Indian children with disabilities.

DATES: The Board will meet from 8 a.m. to 4:30 p.m. on Thursday, January 18, 2001; from 8 a.m. to 4:30 p.m. on Friday, January 19, 2001; and from 9 a.m. to 12 p.m. (MST) on Saturday, January 20, 2001

ADDRESSES: The meetings will be held at the Holiday Inn-Tempe/Arizona State University, 915 East Apache Boulevard, Tempe, Arizona 85281. Telephone (480) 968-3451; Fax (480) 968-6262.

Written statements may be submitted to William A. Mehojah, Director, Office of Indian Education Programs, Bureau of Indian Affairs, 1849 C Street, NW., MS-3512, Washington, DC 20240; Telephone (202) 208-6123; Fax (202) 208-3312.

FOR FURTHER INFORMATION CONTACT: Dr. Angelita Felix, Lead Education Specialist, Bureau of Indian Affairs, Office of Indian Education Programs, Division of School Improvement, P.O. Box 1088, Albuquerque, New Mexico 87103; Telephone (505) 248-7529.

SUPPLEMENTARY INFORMATION: The purpose of the Board is to provide advice to the Secretary of the Interior, through the Assistant Secretary—Indian Affairs, on the needs of Indian children with disabilities, as mandated by the Individuals with Disabilities Education Act Amendments of 1997, Public Law 105-17, June 4, 1997.

The agenda for this meeting will cover public comments, approval of minutes, executive committee reports, new business: Approval of by laws, annual report, comprehensive system of a personnel development plan, Office of Special Education Program (OSEP) data collection update, Federal Advisory Committee Act requirements, OSEP improvement plan and Division of School Improvement update. The meeting is open to the public.

The next Board meeting will be held on or about June 14, 2001. Location, date, and time may be obtained from the Division of School Improvement, telephone (505) 248-7527 or 7529; Fax (505) 248-7546.

Dated: December 28, 2000.
Kevin Gover,
Assistant Secretary—Indian Affairs.

[FR Doc. 01-894 Filed 1-10-01; 8:45 am]

BILLING CODE 4310-02-P